ENVIRONMENTAL PROTECTION AGENCY

[FRL-8968-6]

Science Advisory Board Staff Office; Notification of a Public Meeting of the Science Advisory Board (SAB)

AGENCY: Environmental Protection Agency (EPA).

ACTION: Notice.

SUMMARY: The Environmental Protection Agency (EPA) Science Advisory Board (SAB) Staff Office announces a public meeting of the Chartered SAB to: Discuss EPA's updated long range strategic research directions, conduct one or more quality reviews of draft SAB panel reports, and plan for future SAB activities.

DATES: The public meeting will be held on Monday, November 9, 2009 from 8 a.m. to 5:30 p.m. (Eastern Time) and Tuesday, November 10, 2009 from 8 a.m. to 2:30 p.m. (Eastern Time).

ADDRESSES: The meeting will be held at the Embassy Suites Hotel, 201 Harrison Oaks Blvd., Cary, NC 27513; telephone (919) 677-1840.

FOR FURTHER INFORMATION CONTACT: Any member of the public who wants further information concerning the meeting may contact Mr. Thomas Miller, Designated Federal Officer (DFO), EPA Science Advisory Board (1400F), U.S. Environmental Protection Agency, 1200 Pennsylvania Avenue, NW., Washington, DC 20460; via telephone/voice mail (202) 343-9982; fax (202) 233-0643; or e-mail at miller.tom@epa.gov. General information concerning the SAB can be found on the EPA Web site at http://www.epa.gov/sab.

SUPPLEMENTARY INFORMATION:

Background: Pursuant to the Federal Advisory Committee Act, 5 U.S.C., App. 2 (FACA), notice is hereby given that the EPA Science Advisory Board will hold a public meeting to evaluate, and discuss with EPA representatives, the updated EPA strategic research directions; to conduct a quality review of the draft SAB Drinking Water Committee (DWC) advisory on EPA's Total Coliform Rule, and to discuss its Fiscal Year 2010 plans. The SAB was established pursuant to 42 U.S.C. 4365 to provide independent scientific and technical advice to the Administrator on the technical basis for Agency positions and regulations. The SAB will comply with the provisions of FACA and all appropriate SAB Staff Office procedural policies.

Background: (a) Strategic Research Vision: The purpose of this meeting will be to allow the Chartered SAB to discuss the strategic research directions of EPA's Office of Research and Development (ORD) with Agency representatives. These discussions will allow consideration of the overall strategic directions of the research program in relation to EPA's overall mission, the evaluation of smaller components of the research and development program as they fit into the total program, and how ORD's Integrated Multidisciplinary Research is intended to transform EPA research in support of the Agency's mission.

(b) SAB Quality Review of the Draft SAB Advisory on EPA's Total Coliform Rule: EPA's Office of Water is planning to propose a revised Total Coliform Rule and requested that the SAB review a draft analysis supporting the rule. The SAB Drinking Water Committee's draft advisory focused on (1) Data sources used to estimate baseline total coliform and E. coli occurrence, public water system profile, and sensitive subpopulations in the United States, (2) the occurrence analysis used to inform benefits calculations, (3) benefits analysis—the qualitative analysis used to estimate the reduction in risk due to implementation of the rule requirements and (4) analysis of the engineering costs and costs to States resulting from implementation of the revisions. The draft advisory from this effort will undergo an SAB Quality Review. The purpose of a Quality Review is to ensure that the original charge questions to the committee were answered, that the report is clear and logical, and that the Drinking Water Committee's conclusions and recommendations are supported in the draft report.

(c) SAB Planning: Members will be briefed upon and discuss the proposed SAB operating plan for Fiscal Year 2010. Members' feedback on the plan will be used in developing the SAB's Fiscal Year 2010 operating plan.

Availability of Meeting Materials: A meeting agenda, charge questions and other materials for the meeting will be placed on the SAB Web site at http://yosemite.epa.gov/sab/sabpeople.nsf/WebCommittees/BOARD.

Procedures for Providing Public Input: Interested members of the public may submit relevant written or oral information for consideration on the topics included in this advisory activity. Oral Statements: To be placed on the public speaker list for the November 9-10, 2009 meeting, interested parties should notify Mr. Thomas Miller, DFO, by e-mail no later than November 2, 2009. Individuals making oral statements will be limited to five minutes per speaker. Written Statements: Written statements for the November 9-10, 2009 meeting should be received in the SAB Staff Office by November 2, 2009, so that the information may be made available to the SAB for its consideration prior to this meeting. Written statements should be supplied to the DFO in the following formats: one hard copy with original signature and one electronic copy via e-mail (acceptable file format: Adobe Acrobat PDF, MS Word, WordPerfect, MS PowerPoint, or Rich Text files in IBM-PC/Windows 98/2000/XP format). Submitters are asked to provide electronic versions of each document submitted with and without signatures, because the SAB Staff Office does not publish documents with signatures on its Web sites.

Accessibility: For information on access or services for individuals with disabilities, please contact Mr. Miller at the phone number or e-mail address noted above, preferably at least ten days prior to the meeting, to give EPA as much time as possible to process your request.

Dated: October 6, 2009.
Anthony F. Maciorowski,
Deputy Director, EPA Science Advisory Board Staff Office.

[FR Doc. E9-24683 Filed 10-13-09; 8:45 am]

BILLING CODE 6560-50-P